EXPORT-IMPORT BANK OF THE UNITED STATES

[Public Notice 2015-6020]

Agency Information Collection Activities: Comment Request

AGENCY: Export-Import Bank of the United States.

ACTION: Submission for OMB review and comments request.

Form Title: EIB 15-03, Small Business Exporter Survey on US Content Requirement.

SUMMARY: The Export-Import Bank of the United States (Ex-Im Bank), as a part of its continuing effort to reduce paperwork and respondent burden, invites the general public and other Federal Agencies to comment on the proposed information collection, as required by the Paperwork Reduction Act of 1995.

Under Ex-Im Bank's Short and Medium-Term Insurance and Medium-Term Guarantee programs exported goods and services must meet established content requirement to be eligible for Ex-Im Bank financing and ensure that US-jobs benefit from Ex-Im bank programs. Ex-Im Bank relied upon the exporter's self-certification of content was never verified. The small business exporter survey seeks to obtain feedback from customers on US content requirement. This survey will help Ex-Im Bank better understand small business customers' perspectives on the bank's existence, monitoring, ability to perform compliance on potential areas of concern for exporters and how Ex-Im Bank's requirement impacts their small business. The objective is to identify possible service improvements and better understand small business owners' experiences working with Ex-Im Bank.

The survey can be reviewed at: http://www.valuerecoveryholding.com/pending/surveyquestionnaire.html

DATES: Comments should be received on or before February 16, 2016.

ADDRESSES: Comments may be submitted electronically on WWW.REGULATIONS.GOV or by mail to Nigussie Haile, Export Import Bank of the United States, 811 Vermont Ave. NW., Washington, DC 20571

SUPPLEMENTARY INFORMATION:

Titles and Form Number: EIB 15-03, Small Business Exporter Survey on US Content Requirement.

OMB Number: 3048-XXXX.

Type of Review: Regular.

Need and Use: The information requested enables Ex-Im Bank to identify possible service improvements to the benefit of small business exporters.

The number of respondents: 1,000.

Estimated time per respondents: 10 minutes.

The frequency of response: One time.

Annual hour burden: 166.7 total hrs.

Government Expenses

Reviewing time per response: 5 minutes.

Responses per year: 1,000.

Reviewing time per year: 83.33 hours.

Average Wages per hour: $42.50.

Average cost per year: (time * wages) $3,541.67.

Benefits and overhead: 20%.

Total Government Cost: $4,250.

Bonita Jones-McNeil,
Program Analyst, Records Management Division.

[FR Doc. 2015-31530 Filed 12-15-15; 8:45 am]

BILLING CODE 6690-01-P